FEDERAL COMMUNICATIONS COMMISSION

47 CFR Part 73

[MB Docket No. 18-153; RM-11801; DA 18-962]

Television Broadcasting Services; Block Island and Newport, Rhode Island

AGENCY: Federal Communications Commission.

ACTION: Final rule.

SUMMARY: At the request of ION Television License, LLC (ION), the Commission amends the DTV Table of Allotments to reallot channel 17 from Block Island, Rhode Island, to Newport, Rhode Island. The Commission also grants ION's request to change WPXQ's community of license to Newport, Rhode Island, amending the DTV Table of Allotments to reflect this change while modifying WPXQ's license to reflect that its community of license is Newport, Rhode Island. The new allotment will be mutually exclusive with WPXQ's existing allotment and the reallotment will result in a preferential arrangement of allotments pursuant to the Commission's second allotment priority by providing Newport its first local television service. The reallotment will cause no public harm because Block Island will continue to be served by five full power commercial and one full power non-commercial television stations and receive over-the-air service from WPXQ.

DATES: Effective October 4, 2018.

FOR FURTHER INFORMATION CONTACT: Darren Fernandez, Media Bureau, at Darren.Fernandez@fcc.gov; or Joyce Bernstein, Media Bureau, at Joyce.Bernstein@fcc.gov.

SUPPLEMENTARY INFORMATION: This is a summary of the Report and Order in MB Docket No. 18-153; RM-11801; DA 18-962, adopted September 18, 2018, and released September 18, 2018. The full text of this document is available for public inspection and copying during normal business hours in the FCC's Reference Information Center at Portals II, CY-A257, 445 12th Street SW, Washington, DC 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, 5 U.S.C. 801(a)(1)(A).

List of Subjects in 47 CFR Part 73

Television.

Federal Communications Commission.
Barbara Kreisman,
Chief, Video Division, Media Bureau.

Final Rule

For the reasons discussed in the preamble, the Federal Communications Commission amends 47 CFR part 73 as follows:

1. The authority citation for part 73 continues to read as follows:

Authority: 47 U.S.C. 154, 303, 334, 336, and 339.

§ 73.622 [Amended]

2. Amend § 73.622(i) in the Post-Transition Table of DTV Allotments under Rhode Island by removing Block Island, channel 17, and adding, in alphabetical order, Newport, channel 17.

[FR Doc. 2018-21071 Filed 10-3-18; 8:45 am]

BILLING CODE 6712-01-P